NATIONAL LABOR RELATIONS BOARD

Sunshine Act Meetings: September 2014

TIME AND DATES: All meetings are held at 2:00 p.m.

Tuesday, September 2;

Wednesday, September 3;

Thursday, September 4;

Tuesday, September 9;

Wednesday, September 10;

Thursday, September 11;

Tuesday, September 16;

Wednesday, September 17;

Thursday, September 18;

Tuesday, September 23;

Wednesday, September 24;

Thursday, September 25;

Tuesday, September 30.

PLACE: Board Agenda Room, No. 11820, 1099 14th St., NW., Washington, DC 20570

STATUS: Closed.

MATTERS TO BE CONSIDERED: Pursuant to § 102.139(a) of the Board's Rules and Regulations, the Board or a panel thereof will consider “the issuance of a subpoena, the Board's participation in a civil action or proceeding or an arbitration, or the initiation, conduct, or disposition . . . of particular representation or unfair labor practice proceedings under section 8, 9, or 10 of the [National Labor Relations] Act, or any court proceedings collateral or ancillary thereto.” See also 5 U.S.C. 552b(c)(10).

CONTACT PERSON FOR MORE INFORMATION: Henry Breiteneicher, Associate Executive Secretary, (202) 273-2917

Dated: August 29, 2014.
William B. Cowen,
Solicitor.

[FR Doc. 2014-21108 Filed 8-29-14; 4:15 pm]

BILLING CODE 7545-01-P